DEPARTMENT OF THE INTERIOR

Bureau of Land Management

Privacy Act of 1974 as Amended; Notice of Proposed Addition of a New System of Records

AGENCY: Bureau of Land Management, Interior.

ACTION: Notice.

SUMMARY: Pursuant to the provisions of the Privacy Act of 1974, as amended, (5 U.S.C. 552a), the Bureau of Land Management (BLM) is issuing public notice of its intent to add a new electronic Bureau-wide system of records, the Wild Horse and Burro Program System (WHBPS). This system supports the management of the Wild Horse and Burro (WHB) program and will contain data covered by the Privacy Act of 1974, as amended (5 U.S.C. 552A). The WHBPS is a centrally hosted Web-based application that is only accessible by authorized government users through the BLM intranet for the purpose of administering the WHB program. This action is necessary to meet the requirements of the Privacy Act to publish in the Federal Register notice of the existence and character of records systems maintained by the agency (5 U.S. C. 552a(e)(4)).

DATES: Effective Date: 5 U.S.C. 552a(e)(11) requires that the public be provided a 30-day period in which to comment on the agency's intended use of the information in the system of records. The Office of Management and Budget, in its Circular A-130, requires an additional 10-day period (for a total of 40 days) in which to make these comments. Any persons interested in commenting on this proposed system of records may do so by submitting comments in writing to the Bureau of Land Management Privacy Act Officer, Information Resources Management Governance Division, Department of the Interior, WO560/725 LS, 1849 C Street, NW., Washington, DC 20240. Comments received within 40 days of the publication of this notice in the Federal Register will be considered. The system will be effective as proposed at the end of the comment period unless comments are received which would require a contrary determination.

Before including your address, phone number, e-mail address, or other personal identifying information in your comment, you should be aware that your entire comment—including your personal identifying information—may be made publicly available at any time. While you can ask us in your comment to withhold your personal identifying information from public review, we cannot guarantee that we will be able to do so.

ADDRESSES: Send written comments to the Bureau of Land Management Privacy Act Officer, Information Resources Management Governance Division, Department of the Interior, WO560/725 LS, 1849 C Street, NW., Washington, DC 20240. Hand deliver comments to the Information Resources Management Policy Group, Room 725, 1620 L Street, NW., Washington, DC. Comments may be submitted by e-mail to Ms. Laura F. Bell, via lfbell@blm.gov.

FOR FURTHER INFORMATION CONTACT: Don Glenn, Group Manager, Wild Horse and Burro Program, U.S. Department of the Interior, Bureau of Land Management, 18th and C Streets, NW., Washington, DC 20240.

SUPPLEMENTARY INFORMATION: The BLM is proposing to add a new system of records, the Wild Horse and Burro Program System (WHBPS), to support management of the Wild Horse and Burro (WHB) program. This system will replace the legacy Wild Horse and Burro Information System (WHBIS) as the WHBIS is no longer technologically supported. The WHBPS is a centrally hosted web-based application that is only accessible by authorized government users through the BLM intranet. The new system covers the full range of activities related to management of wild horses and burros. As a part of managing those activities, the WHBPS will contain information on adopters and buyers of wild horses or burros and information on government employees, contractors, volunteers and service providers supporting WHB program activities.

A copy of the system notice for the “Wild Horse and Burro Program System, (WHBPS)” follows:

Laura F. Bell,
Freedom of Information Act Officer.

SYSTEM NAME:

Wild Horse & Burro Program System (WHBPS)

System location:

The WHBPS is a centrally hosted web-based application that is only accessible by authorized government users through the BLM intranet. The hardware and database supporting the system is located at: U.S. Department of the Interior, Bureau of Land Management (BLM), National Information Resources Management Center (NIRMC), Building 40, Denver Federal Center, Denver, CO 80225.

Categories of individuals covered by the system:

(1) Applicants to adopt wild horse(s) and burro(s), persons who have adopted one or more wild horse(s) or burro(s) and buyers of wild horses and burros that meet sale criteria as outlined under law.

(2) Contractors and contract operators of facilities; veterinarians who are serving the program; volunteers; service providers, and BLM, Forest Service (FS) and Animal and Plant Health Inspection Service (APHIS) employees with WHB Program responsibilities. This system may also contain records on corporation and other business entities but those records are not subject to the Privacy Act.

Categories of records in the system:

(1) For category 1, the records contain the potential adopter's, adopter's, or buyer's identification and qualifications to obtain custody of a wild horse or burro (as detailed on the Adopt A Wild Horse or Burro Internet web application, Application for Adoption of Wild Horse(s) or Burro(s) (OMB Form 4710-10) or Bill of Sale for Wild Horse(s) and Burro(s) (BLM Form 4710-23)), the record of the disposition of the application, the cooperative agreement when custody is granted, evidence of title or sale when ownership transfers, information on fees assessed, and information on the person's compliance with the terms of the agreement.

(2) For category 2, the record contains information for use internal to the program regarding an individual's identification and contact information, job qualifications/certifications, services supplied, system access roles and approval authorities. This information is necessary to administer the WHB program and identify suppliers of services or products necessary for WHB program administration.

Authority for maintenance of the system:

The Wild Free Roaming Horse and Burro Act of 1971,

The Federal Land Policy and Management Act,

The Public Rangelands Improvement Act,

43 CFR 4700,

16 U.S.C. 1333.

Routine uses of records maintained in the system, including categories of users and the purposes of such uses:

The WHBPS will include information on applicants for adoption, buyers of animals, adopters and those individuals listed in category 2 above.

The primary uses of the records are to

(1) Identify individuals who have applied to obtain custody of a wild horse or burro through adoption or sale;

(2) Document the rejection, suspension or granting of the request for adoption or sale;

(3) Monitor compliance with laws/regulations concerning maintenance of adopted animals;

(4) Identify contractors/employees/volunteers/service providers required to perform program functions;

(5) Provide necessary program management information to other agencies involved in management of wild horses and burros on public lands (FS and APHIS); and

(6) Identify and assign level of system access required by BLM, FS and APHIS WHB program personnel.

Disclosures outside the Department of the Interior may be made to:

(1) Organizations and members of the general public as to the disposition of wild horses or burros;

(2) The U.S. Department of Justice or in a proceeding before a court or adjudicative body when:

(a) The United States, the Department of the Interior, a component of the Department, or, when represented by the government, an employee of the Department is a party to litigation or anticipated litigation or has an interest in such litigation;

(b) The Department of the Interior determines that the disclosure is relevant or necessary to the litigation and is compatible with the purpose for which the records were compiled; and

(c) Information indicating a violation or potential violation of a statute, regulation, rule, order or license, to appropriate Federal, State, local or foreign agencies responsible for investigation or prosecuting the violation or for enforcing or implementing the statute, rule, regulation, order or license.

(3) A Congressional office for the record of an individual in response to an inquiry the individual has made to the Congressional office; and

(4) Appropriate agencies, entities, and persons when the:

(a) Agency suspects or has confirmed that the security or confidentiality of information in the system of records has been compromised;

(b) Department has determined that as a result of the suspected or confirmed compromise there is a risk of harm to economic or property interests, identity theft or fraud, or harm to the security or integrity of this system or other systems or programs (whether maintained by the Department or another agency or entity) that rely upon the compromised information; or

(c) Disclosure made to such agencies, entities, and persons is reasonably necessary to assist in connection with the Department's efforts to respond to the suspected or confirmed compromise and prevent, minimize, or remedy such harm.

Disclosure to consumer reporting agencies:

Disclosure pursuant to 5 U.S.C. 552a(b)(12): Disclosures may be made to consumer reporting agencies as defined in the Fair Credit Reporting Act (15 U.S.C. 1681a(f) or the Federal Claims Collection Act of 1966 (31 U.S.C. 3701(a)(3)).

Policies and practices for storing, retrieving, accessing, retaining, and disposing of records in the system:

Storage:

Manually through file folders arranged alphabetically by name and electronically in the computer data base management system.

Retrievability:

Indexed by name or other identifying information.

Safeguards:

Steps were taken to comply with Department of the Interior Privacy Act regulations on safeguard requirements detailed at 43 CFR 2.51. In accordance with the E-Government Act of 2002, a Privacy Impact Assessment was completed to ensure that privacy risks and safeguard measures were assessed in the creation, development and maintenance of the systems maintaining WHB program information.

Retention and disposal:

Records will be maintained in accordance with BLM Manual 1220, Records and Information Management, Appendix 2—GRS BLM Combined Records Schedules. Individual data elements will be destroyed when superseded or no longer needed for administrative purposes. Computer files are archived periodically and the archive media stored securely.

System manager(s) and address:

Group Manager, Wild Horse and Burro Program, U.S. Department of the Interior, Bureau of Land Management, 18th and C Streets, NW., Washington, DC 20240.

Notification procedure:

To determine whether records are maintained on you in this system, write to the System Manager at the address above. For additional information see 43 CFR 2.60.

Record access procedures:

To see your records, write to the System Manager at to the address above. Describe as specifically as possible the records sought. If copies are desired, indicate the maximum you are willing to pay. For additional information see 43 CFR 2.63.

Contesting record procedures:

To request corrections or the removal of material from your files, write the System Manager. For additional information see 43 CFR 2.71.

Record source categories:

(1) Category 1: Individuals applying for adoption of a wild horse or burro either in hard copy form or through the web application; individuals adopting a wild horse or burro; or buyers of wild horses or burros: Personal information is provided by the individual.

(2) Category 2: Contractors and contract operators of facilities; veterinarians who are serving the program; volunteers; service/supply providers and BLM, FS and APHIS employees with WHB Program responsibilities. Personal information will be provided by the individual.

[FR Doc. E7-23357 Filed 11-30-07; 8:45 am]

BILLING CODE 4310-84-P